ENVIRONMENTAL PROTECTION AGENCY

[ER-FRL-8591-7]

Environmental Impacts Statements; Notice of Availability

Responsible Agency: Office of Federal Activities, General Information (202) 564-1399 or http://www.epa.gov/compliance/nepa/. Weekly receipt of Environmental Impact Statements filed 03/16/2009 through 03/20/2009 pursuant to 40 CFR 1506.9.

EIS No. 20090079, Revised Draft EIS, AFS, MT, Cabin Gulch Vegetation Treatment Project, Restore Fire-Adapted Ecosystems, Existing and Desired Conditions, Townsend Ranger District, Helena National Forest, Broadwater County, MT, Comment Period Ends: 05/11/2009, Contact: David Carroll 406-495-3716.

EIS No. 20090080, Final EIS, AFS, CO, Long Draw Reservoir Project, Re-Issue a Special-Use-Authorization to Water Supply and Storage to Allow the Continued Use of Long Draw Reservoir and Dam, Arapaho and Roosevelt National Forests and Pawnee National Grassland, Grand and Larimer Counties, CO, Wait Period Ends: 04/27/2009, Contact: Kris Sexton, 970-295-6623.

EIS No. 20090081, Final EIS, AFS, OR, BLT Project, Proposed Vegetation Management Activities, Crescent Ranger District, Deschutes National Forest, Deschutes County, OR, Wait Period Ends: 04/27/2009, Contact: Chris Mickle, 541-433-3200.

EIS No. 20090082, Draft EIS, AFS, CA, Salt Timber Harvest and Fuel Hazard Reduction Project, Proposing Vegetation Management in the Salt Creek Watershed, South Fork Management Unit, Hayfork Ranger District, Shasta-Trinity National Forest, Trinity County, CA, Comment Period Ends: 05/11/2009, Contact: Sandy Mack, 406-375-2638.

EIS No. 20090083, Draft EIS, AFS, 00, Rogue River-Siskiyou National forest, Motorized Vehicle Use, To Enact the Travel Management Rule, Implementation, Douglas, Klamath, Jackson, Curry, Coos and Josephine Counties, OR and Del Norte and Siskiyou Counties, CA, Comment Period Ends: 05/11/2009, Contact: Steven R. Johnson, 541-552-2900.

EIS No. 20090084, Second Final Supplement, BLM, NV, Betze Pit Expansion Project, Development of New Facilities and Expansion of Existing Open-Pit Gold Mining, Eureka and Elko Counties, NV, Wait Period Ends: 04/27/2009, Contact: Kirk Laird, 775-753-0272.

EIS No. 20090085, Revised Draft EIS, FHW, CA, Partially Revised Tier 1—Placer Parkway Corridor Preservation Project, Select and Preserve a Corridor for the Future Construction from CA-70/99 to CA 65, Placer and Sutter Counties, CA, Comment Period Ends: 05/11/2009, Contact: Gary Sweeten, 916-498-5128.

EIS No. 20090086, Second Draft Supplement, GSA, MD, U.S. Food and Drug Administration (FDA) Headquarters Consolidation, Master Plan Update, Federal Research Center at White Oak, Silver Spring, Montgomery County, MD, Comment Period Ends: 05/11/2009, Contact: Suzanne Hill, 202-205-5821.

EIS No. 20090087, Draft EIS, FRA, 00, DesertXpress High-Speed Passenger Train Project, Proposes to Construct and Operate High-Speed Passenger Train between Victorville, California and Las Vegas, Nevada, Comment Period Ends: 05/22/2009, Contact: Wendy Messenger, 202-493-6396.

Amended Notices

EIS No. 20090017, Draft EIS, USN, GU, Mariana Islands Range Complex (MIRC), To Address Ongoing and Proposed Military Training Activities, Mariana Islands, GU, Comment Period Ends: 03/31/2009, Contact: Nora Macariola-See 808-472-1402. Revision to FR Notice Published 01/30/2009: Extending Comment Period from 03/16/2009 to 03/31/2009.

Dated: March 24, 2009.
Ken Mittelholtz,
Environmental Protection Specialist, NEPA Compliance Division, Office of Federal Activities.

[FR Doc. E9-6888 Filed 3-26-09; 8:45 am]

BILLING CODE